DEPARTMENT OF LABOR

Employment and Training Administration

[TA-W-37,996]

Consolidated Metco, Inc., Rivergate Plant, Portland, OR; Notice of Termination of Investigation

Pursuant to section 221 of the Trade Act of 1974, an investigation was initiated on August 21, 2000, in response to a worker petition which was filed by the International Association of Machinists and Aerospace Workers, Lodge 1432, on behalf of workers at Consolidated Metco, Inc., Rivergate Plant, Portland, Oregon.

The petitioner has requested that the petition be withdrawn. Consequently further investigation in this case would serve no purpose, and the investigation has been terminated.

Signed in Washington, DC, this 12th day of October 2000.
Linda G. Poole,
Certifying Officer, Division of Trade Adjustment Assistance.

[FR Doc. 00-27570 Filed 10-25-00; 8:45 am]

BILLING CODE 4510-30-M